DEPARTMENT OF ENERGY

Federal Energy Regulatory Commission

Notice of Compliance Filing

May 18, 2001.

In the matter of: Docket Nos. RP01-295-001, RP01-294-001, RP01-300-001, RP01-303-001, RP01-346-001, RP01-367-001, RP01-302-001, RP01-340-001, RP01-309-001, RP01-308-001, RP01-358-001, RP01-286-001, RP01-338-001, RP01-301-001, RP01-304-001, RP01-288-001, RP01-366-001, RP01-347-001, RP01-341-001, RP01-321-001, RP01-296-001, RP01-311-001, RP01-310-001, RP01-363-001, RP01-328-001, RP01-365-001, RP01-312-001, RP01-362-001 and RP01-364-001 (Not Consolidated); ANR Storage Company, Blue Lake Gas Storage Company, Clear Creek Storage Company, L.L.C., Destin Pipeline Company, L.L.C., Discovery Gas Transmission LLC, Florida Gas Transmission Company, Garden Banks Gas Pipeline, LLC, Gulf South Pipeline Company, LP, Gulf States Transmission Corporation, High Island Offshore System, L.L.C., Michigan Gas Storage Company, Midcoast Interstate Transmission, Inc., Midwestern Gas Transmission Company, Mississippi Canyon Gas Pipeline, LLC, Nautilus Pipeline Company, L.L.C., Northern Border Pipeline Company, Northern Natural Gas Company, Petal Gas Storage Company, Sabine Pipe Line LLC, Southern Natural Gas Company, Steuben Gas Storage Company, Stingray Pipeline Company, Tennessee Gas Pipeline Company, Texas Gas Transmission Corporation, Trailblazer Pipeline Company, Transwestern Pipeline Company, U-T Offshore System, L.L.C., Venice Gathering System, L.L.C., and Williams Gas Pipelines Central, Inc.;

Take notice that the above-referenced pipelines made filings in compliance with the Commission's “Order on Filings in Compliance with Order No. 587-M”, issued April 26, 2001, Docket No. RM96-1-015 and in numerous individual pipeline dockets.¹

¹ Standards for Business Practices of Interstate Natural Gas Pipeline, Docket No. RM96-1-015, 95 FERC ¶61,127 (2001).

Due to the numerous individual pipelines that have filed in compliance with the Commission's order, the filings are being noticed as a basket notice, and the proceedings are not consolidated. The Commission will act on each pipeline filing individually.

Any person desiring to file a protest must file a separate protest in each docket.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-13092 Filed 5-23-01; 8:45 am]

BILLING CODE 6717-01-M